DEPARTMENT OF THE TREASURY

Community Development Financial Institutions Fund

Open Meeting of the Community Development Advisory Board

AGENCY: Community Development Financial Institutions Fund, Department of the Treasury.

ACTION: Notice of open meeting.

SUMMARY: This notice announces the next meeting of the Community Development Advisory Board (the Advisory Board), which provides advice to the Director of the Community Development Financial Institutions Fund (the Fund).

DATES: The next meeting of the Advisory Board will be held from 9 a.m. to 1 p.m. on June 25, 2008.

ADDRESSES: The Advisory Board meeting will be held in the John Adams Salons A & B at The Madison Hotel located at 1177 Fifteenth Street, NW., Washington, DC 20005.

FOR FURTHER INFORMATION CONTACT: The Office of Public and Legislative Affairs of the Fund, 601 Thirteenth Street, NW., Suite 200 South, Washington, DC 20005, (202) 622-8042 (this is not a toll free number). Other information regarding the Fund and its programs may be obtained through the Fund's Web site at http://www.cdfifund.gov.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the Fund (who has been delegated the authority to administer the Fund) on the policies regarding the activities of the Fund. The Advisory Board shall not advise the Fund on the granting or denial of any particular application for monetary or non-monetary awards. The Advisory Board shall meet at least annually.

The next meeting of the Advisory Board, all of which will be open to the public, will be held in the John Adams Salons A & B at The Madison Hotel located at 1177 Fifteenth Street, NW., Washington, DC 20005, from 9 a.m. to 1 p.m. on June 25, 2008. The room will accommodate up to 20 members of the public. Seats are available to members of the public on a first-come, first-served basis.

Participation in the discussions at the meeting will be limited to Advisory Board members, Department of the Treasury staff, and certain invited guests. Anyone who would like to have the Advisory Board consider a written statement must submit it to the Fund's Office of Public and Legislative Affairs of the Fund, 601 Thirteenth Street, NW., Suite 200 South, Washington, DC 20005, by 5 p.m. EDT on Friday, June 20, 2008.

The Advisory Board meeting will include a report from the Director on the activities of the Fund since the last Advisory Board meeting, as well as policy, programmatic, fiscal and legislative initiatives for the years 2008 and 2009.

Authority: 12 U.S.C. 4703; Chapter X, Pub. L. 104-19, 109 Stat. 237.

Dated: June 5, 2008.
Donna J. Gambrell,
Director, Community Development Financial Institutions Fund.

[FR Doc. 08-1342 Filed 6-6-08; 1:17 pm]

BILLING CODE 4810-70-P